DEPARTMENT OF LABOR

Employment and Training Administration

Job Corps: Environmental Assessment (EA) for the Rehabilitation or Replacement of Buildings at the Gulfport Job Corps Center, Gulfport, Mississippi

AGENCY: Employment and Training Administration (ETA), Labor.

ACTION: Notice of availability for comment of an environmental assessment

SUMMARY: Building 1 (Administration/Education Building) and Building 2 (Gymnasium)and Building 5 (Cafeteria) at the Gulfport JCC, originally built as the 33rd Avenue High School, were completed in 1954 and are considered eligible for the National Register of Historic Places (NRHP). These buildings (Buildings 1, 2, and 5) sustained extensive damage during Hurricane Katrina and have not been rehabilitated. The Gulfport JCC has been operating at reduced student capacity in the remaining three buildings and eight modular buildings. DOL proposes to redevelop the Gulfport Job Corps Center (JCC) so that it can provide training for the 280-student capacity for which it was originally designed.

DATES: Submittal of public comments must be received no later than December 19, 2016.

ADDRESSES: Comments can be submitted by email to Marsha Fitzhugh at fitzhugh.marsha@dol.gov, or mailed to: Ann Guissinger, Gulf South Research Corporation, 8081 Innovation Park Dr., Baton Rouge, LA 70820.

FOR FURTHER INFORMATION CONTACT: Marsha Fitzhugh, Division of Facilities and Asset Management, 200 Constitution Avenue NW., Room N-4463, Washington, DC 20210, 202-693-3099.

SUPPLEMENTARY INFORMATION: The Preferred Alternative would retain the historic appearance of the Building 1 (Administration/Education Building) and Building 2 (Gymnasium) façades while providing modern facilities behind the façades. Building 5 (Cafeteria) would be demolished and replaced by a new, modern cafeteria, and a new building would be constructed for vocational training for shop-related trades and for storage and maintenance.

Pursuant to the Council on Environmental Quality Regulations (40 CFR part 1500-08) implementing procedural provisions of the National Environmental Policy Act (NEPA), the Department of Labor, ETA, in accordance with 29 CFR 11.11(d) is announcing the availability of an Environmental Assessment (EA) that has been prepared for the Restoration or Replacement of Buildings at the Gulfport Job Corps Center located at 3300 20th Street, Gulfport, MS 39501.

Availability of the Environmental Assessment

This EA will be available at the Gulfport Public Library, 1708 25th Avenue, Gulfport, MS 39501 and at http://www.jobcorps.gov/home.aspx.

Signed in Washington, DC.
Portia Wu,
Assistant Secretary for Employment and Training.

[FR Doc. 2016-27696 Filed 11-16-16; 8:45 am]

BILLING CODE 4510-FT-P